DEPARTMENT OF LABOR

Employment and Training Administration

[TA-W-85,888]

General Mills Bakery Division, Including On-Site Leased Workers From Randstad Temp Agency, Aerotek, Inc., and Sonoco, New Albany, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on March 12, 2015, applicable to workers from General Mills, Bakery Division, including on-site leased workers from Randstad Temp Agency and Aerotek, Inc., New Albany, Indiana. The Department's Notice of Determination was published in the Federal Register on April 28, 2015 (80 FR 30490).

At the request of a State Workforce Official, the Department reviewed the certification for workers of the subject firm. The workers were engaged in the production of refrigerated dough products.

The investigation confirmed that workers of Sonoco were employed on-site at General Mills, New Albany, Indiana and may be considered leased workers.

The amended notice applicable to TA-W-85,888 is hereby issued as follows:

“All workers of General Mills, Bakery Division, including on-site leased workers from Randstad Temp Agency Aerotek, Inc., and Sonoco, New Albany, Indiana, who became totally or partially separated from employment on or after March 18, 2014 through April 14, 2017, are eligible to apply for adjustment assistance under Chapter 2 of Title II of the Trade Act of 1974, as amended, and are also eligible to apply for alternative trade adjustment assistance under Section 246 of the Trade Act of 1974, as amended.”

Signed in Washington, DC this 28th day of May, 2015.
Michael W. Jaffe
Certifying Officer, Office of Trade Adjustment Assistance.

[FR Doc. 2015-15961 Filed 6-29-15; 8:45 am]

BILLING CODE 4510-FN-P